DEPARTMENT OF HOMELAND SECURITY

Coast Guard

33 CFR Part 165

[Docket No. USCG-2018-0623]

Safety Zones; Annual Events in the Captain of the Port Buffalo Zone—July Events

AGENCY: Coast Guard, DHS.

ACTION: Notice of enforcement of regulation.

SUMMARY: The Coast Guard will enforce certain safety zones located in federal regulations for recurring marine events. This action is necessary and intended for the safety of life and property on navigable waters during these events. During each enforcement period, no person or vessel may enter the respective safety zone without the permission of the Captain of the Port Buffalo.

DATES: The regulations in 33 CFR 165.939 will be enforced during the month of July as noted in the Supplementary Information section below.

FOR FURTHER INFORMATION CONTACT: If you have questions about this notice of enforcement, call or email LCDR Michael Collet, Chief of Waterways Management, U.S. Coast Guard Sector Buffalo; telephone 716-843-9322, email D09-SMB-SECBuffalo-WWM@uscg.mil.

SUPPLEMENTARY INFORMATION: The Coast Guard will enforce the Safety Zones; Annual Events in the Captain of the Port Buffalo Zone listed in 33 CFR 165.939 for the following events:

(1) Cleveland Triathlon, Cleveland, OH; The safety zone listed in 33 CFR 165.939(b)(1) will be enforced from 5:45 a.m. to 11:15 a.m. on July 22, 2018.

(2) Roverfest Fireworks, Lorain, OH; The safety zone listed in 33 CFR 165.939(b)(2) will be enforced from 9:45 p.m. to 10:35 p.m. on July 21, 2018.

(3) High Speed Boat Races, Mentor, OH; The safety zone listed in 33 CFR 165.939(b)(3) will be enforced from 9:45 a.m. to 5:15 p.m. on July 22, 2018.

(4) Parade of Lights, Cleveland, OH; The safety zone listed in 33 CFR 165.939(b)(6) will be enforced from 9:30 p.m. to 10:15 p.m. on July 21, 2018.

(5) Sheffield Lake Community Days, Sheffield Lake, OH; The safety zone listed in 33 CFR 165.939(b)(10) will be enforced from 9:45 p.m. to 10:35 p.m. on July 27, 2018.

(6) Lake Erie Open Water Swim, Cleveland, OH; The safety zone listed in 33 CFR 165.939(b)(12) will be enforced from 6:45 a.m. to 10:45 a.m. on July 14, 2018.

(7) French Festival Fireworks, Cape Vincent, NY; The safety zone listed in 33 CFR 165.939(b)(15) will be enforced from 9:15 p.m. to 10:45 p.m. on July 14, 2018.

(8) Lyme Community Days, Chaumont, NY; The safety zone listed in 33 CFR 165.939(b)(16) will be enforced from 9:15 p.m. to 10:15 p.m. on July 28, 2018.

(9) Tonawanda's Canal Fest Fireworks, Tonawanda, NY; The safety zone listed in 33 CFR 165.939(b)(26) will be enforced from 9:30 p.m. to 11:00 p.m. on July 22, 2018.

(10) Oswego Harborfest, Oswego, NY; The safety zone listed in 33 CFR 165.939(b)(28) will be enforced from 9:00 p.m. to 10:00 p.m. on July 28, 2018.

Pursuant to 33 CFR 165.23, entry into, transiting, or anchoring within the safety zone during an enforcement period is prohibited unless authorized by the Captain of the Port Buffalo or his designated representative. Those seeking permission to enter the safety zone may request permission from the Captain of Port Buffalo via channel 16, VHF-FM. Vessels and persons granted permission to enter the safety zone shall obey the directions of the Captain of the Port Buffalo or his designated representative. While within a safety zone, all vessels shall operate at the minimum speed necessary to maintain a safe course.

This notice of enforcement is issued under authority of 33 CFR 165.939 and 5 U.S.C. 552(a). In addition to this notice of enforcement in the Federal Register, the Coast Guard will provide the maritime community with advance notification of this enforcement period via Broadcast Notice to Mariners or Local Notice to Mariners. If the Captain of the Port Buffalo determines that the safety zone need not be enforced for the full duration stated in this notice he or she may use a Broadcast Notice to Mariners to grant general permission to enter the respective safety zone.

Dated: July 10, 2018.
Joseph S. Dufresne,
Captain, U.S. Coast Guard, Captain of the Port Buffalo.

[FR Doc. 2018-15051 Filed 7-12-18; 8:45 am]

BILLING CODE 9110-04-P